FEDERAL MARITIME COMMISSION

Notice of Agreements Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201320.

Agreement Name: CNCO/Matson Slot Charter Agreement.

Parties: The China Navigation Co. Pte. Ltd. and Matson Navigation Company, Inc.

Filing Party: Conte Cicala; Clyde & Co US LLP.

Synopsis: The Agreement authorizes China Navigation Company to charter space to Matson in the trade between the U.S. Pacific Coast, Samoa, American Samoa, and Tahiti.

Proposed Effective Date: 9/10/2019.

Location: https://www2.fmc.gov/FMC.Agreements.Web/Public/AgreementHistory/23436.

Dated: September 13, 2019.
Rachel E. Dickon,
Secretary.

[FR Doc. 2019-20211 Filed 9-18-19; 8:45 am]

BILLING CODE 6731-AA-P